DEPARTMENT OF HOMELAND SECURITY

Agency Information Collection Activities: DHS Civil Rights Evaluation Tool, Collection Instrument DHS Form 3095, OMB Control Number 1601-0024

AGENCY: Department of Homeland Security (DHS).

ACTION: 30-Day notice and request for comments; revision request.

SUMMARY: The Department of Homeland Security, Civil Rights Civil Liberties, DHS will submit the following information collection request (ICR) to the Office of Management and Budget (OMB) for review and clearance in accordance with the Paperwork Reduction Act of 1995. DHS previously published this information collection request (ICR) in the Federal Register on February 8, 2024, for a 60-day public comment period. No comments were received by DHS. The purpose of this notice is to allow additional 30-days for public comments.

DATES: Comments are encouraged and will be accepted until July 18, 2024. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Office for Civil Rights and Civil Liberties: Attn: Antidiscrimination Group, CRCL MS 0190, Department of Homeland Security, 2707 Martin Luther King Jr Ave. SE, Washington, DC 20528-0190, 202-401-1474, crcl@hq.dhs.gov.

SUPPLEMENTARY INFORMATION: Recipients of federal financial assistance from the Department of Homeland Security (DHS) are required to meet certain legal requirements relating to nondiscrimination and nondiscriminatory use of federal funds. Those requirements include ensuring that entities receiving Federal financial assistance from the DHS do not deny benefits or services, or otherwise discriminate on the basis of race, color, national origin, disability, age, sex, or religion, in accordance with Title VI of the Civil Rights Act of 1964 (Title VI) Public Law 88-352, 42 U.S.C. 2000d-1 et seq.; 6 CFR part 21; 44 CFR part 7; Section 504 of the Rehabilitation Act of 1973 (Section 504), Public Law 93-112, as amended by Public Law 93-516, 29 U.S.C. 794; Title IX of the Education Amendments of 1972 (Title IX), 20 U.S.C. 1681 et seq.; 6 CFR part 17; 44 CFR part 19; Age Discrimination Act of 1975, Public Law 94-135, 42 U.S.C. 6101 et seq.; 44 CFR part 7 and 6 CFR part 19.

DHS uses DHS Form 3095: DHS Civil Rights Evaluation Tool as the primary tool to implement this information collection. DHS uses the form to collect civil rights related information from all recipients of federal financial assistance from the Department. The purpose of the information collection is to advise recipients of their civil rights obligations and collect pertinent civil rights information to ascertain if the recipient has in place adequate policies and procedures to achieve compliance, and to determine what, if any, further action may be needed (technical assistance, training, compliance review, etc.) to ensure the recipient is able to meet its civil rights requirements and will carry out its programs and activities in a nondiscriminatory manner.

DHS is revising the collection, changing Section 1 of the form on Instructions to extend the deadline for initial submissions from 30 days of receipt of the Notice of Award to 60 days; to update the method of submission from email to an online portal, and to make other minor clarifying revisions. DHS is also making minor changes to Section 2 of the form on Organization Information to remove the fields for reporting Grant Agreement Number and Federal Award Identification Number; DHS now obtains that information from Department data sources. In addition, DHS is making minor changes to Section 5 of the form on Additional Information to streamline communication with recipients by providing a single, centralized point of contact for questions and technical assistance. Lastly, DHS is changing the name of the collection from “DHS Civil Rights Compliance Form” to “DHS Civil Rights Evaluation Tool.”

Analysis

Agency: Department of Homeland Security (DHS).

Title: DHS Civil Rights Evaluation Tool, Collection Instrument DHS Form 3095.

OMB Number: 1601-0024.

Frequency: Annually.

Affected Public: Entities Receiving Federal Financial Assistance from DHS.

Number of Respondents: 5,000.

Estimated Time per Respondent: 3 hours.

Total Burden Hours: 10,050.

Total Burden Cost (capital/startup): 0.

Total Burden Cost (operating/maintaining): 0.

Robert Dorr,
Executive Director, Business Management Directorate.

[FR Doc. 2024-13353 Filed 6-17-24; 8:45 am]

BILLING CODE 9112-FL-P